ENVIRONMENTAL PROTECTION AGENCY

[EPA-HQ-OECA-2013-0324; FRL-9914-66-OEI]

Information Collection Request Submitted to OMB for Review and Approval; Comment Request; NESHAP for Marine Tank Vessel Loading Operations (Renewal)

AGENCY: Environmental Protection Agency (EPA).

ACTION: Notice.

SUMMARY: The Environmental Protection Agency has submitted an information collection request (ICR), “NESHAP for Marine Tank Vessel Loading Operations (40 CFR part 63, subpart Y) (Renewal)” (EPA ICR No. 1679.09, OMB Control No. 2060-0289), to the Office of Management and Budget (OMB) for review and approval in accordance with the Paperwork Reduction Act (44 U.S.C. 3501 et seq). This is a proposed extension of the ICR, which is currently approved through August 31, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 4, 2014.

ADDRESSES: Submit your comments, referencing Docket ID Number EPA-HQ-OECA-2013-0324, to: (1) EPA online using www.regulations.gov (our preferred method); or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Program Division, Office of Compliance, mail code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: This rule applies to marine tank vessel loading operations that are major sources of HAP, have an annual throughput of 10 million or more barrels of gasoline, and/or have an annual throughput of 200 million or more barrels of crude oil. This ICR also covers owners or operators of existing MTVLO, that emit less than 10 tons per year of each individual HAP, and less than 25 tons/year of all HAP combined, located at major sources of HAP that loads more than 1 million barrels/yr of gasoline, as well as owners or operators of existing off-shore terminals that load gasoline.

Form Numbers: None.

Respondents/affected entities: Owners or operators of marine tank vessel loading operations.

Respondent's obligation to respond: Mandatory (40 CFR Part 63, Subpart Y).

Estimated number of respondents: 804 (total).

Frequency of response: Initially and annually.

Total estimated burden: 9,892 hours (per year). Burden is defined at 5 CFR 1320.3(b).

Total estimated cost: $967,810 (per year), including annualized capital and/or operation & maintenance costs.

Changes in the Estimates: There is an increase in the total estimated respondent labor burden and cost as currently identified in the OMB Inventory of Approved Burdens. The labor burden increase is the direct result of adding affirmative defense to this ICR renewal. There is an increase in the cost burden, however, it is due primarily to the use of updated labor rates. This ICR references labor rates from the Bureau of Labor Statistics to calculate the respondent cost burden.

Spencer W. Clark,
Acting Director, Collection Strategies Division.

[FR Doc. 2014-18451 Filed 8-4-14; 8:45 am]

BILLING CODE 6560-50-P